DEPARTMENT OF AGRICULTURE

Forest Service

Ontonagon Resource Advisory Committee

AGENCY: Forest Service, USDA.

ACTION: Notice of meeting.

SUMMARY: The Ontonagon Resource Advisory Committee will meet in Ontonagon, Michigan. The committee is meeting as authorized under the Secure Rural Schools and Community Self-Determination Act (Pub. L. 110-343) (the Act) and operates in compliance with the Federal Advisory Committee Act. The purpose of the committee is to improve collaborative relationships and to provide advice and recommendations to the Forest Service concerning projects and funding consistent with title II of the Act. The meeting is open to the public. The purpose of the meeting is to review and make recommendations on Title II Projects submitted by the public.

DATES: The meeting will be held on September 13, 2012, and will begin at 9:30 a.m. (EST).

ADDRESSES: The meeting will be held at the Ewen-Trout Creek School, 14312 Airport Road, Ewen, Michigan. Written comments may be submitted as described under SUPPLEMENTARY INFORMATION.

All comments, including names and addresses when provided, are placed in the record and are available for public inspection and copying. The public may inspect comments received at Ottawa National Forest, E6248 US Hwy. 2, Ironwood, MI 49938. Please call ahead to 906-932-1330 to facilitate entry into the building to view comments.

FOR FURTHER INFORMATION CONTACT: Lisa Klaus, RAC coordinator, USDA, Ottawa National Forest, E6248 US Hwy. 2, Ironwood, MI, (906) 932-1330, ext. 328; email lklaus@fs.fed.us.

Individuals who use telecommunication devices for the deaf (TDD) may call the Federal Information Relay Service (FIRS) at 1-800-877-8339 between 8:00 a.m. and 8:00 p.m., Eastern Standard Time, Monday through Friday. Requests for reasonable accommodation for access to the facility or proceedings may be made by contacting the person listed in FOR FURTHER INFORMATION CONTACT.

SUPPLEMENTARY INFORMATION: The following business will be conducted: (1) Review and approval of previous meeting minutes. (2) Review and make recommendations for Title II Projects submitted by the public. (3) Public comment. Anyone who would like to bring related matters to the attention of the Committee may file written statements with the Committee staff before or after the meeting. The agenda will include time for people to make oral statements of three minutes or less. Individuals wishing to make an oral statement should request in writing by September 7, 2012, to be scheduled on the agenda. Written comments and requests for time for oral comments must be sent to Lisa Klaus, Ottawa National Forest, E6248 US Hwy. 2, Ironwood, MI 49938. Comments may also be sent via email to lklaus@fs.fed.us or via facsimile to 906-932-0122.

Meeting Accommodations: If you require sign language interpreting, assistive listening devices or other reasonable accommodation please request this in advance of the meeting by contacting the person listed in the section titled FOR FURTHER INFORMATION CONTACT.

All reasonable accommodation requests are managed on a case by case basis.

Dated: August 17, 2012.
Lisa Klaus,
Acting Forest Supervisor.

[FR Doc. 2012-20725 Filed 8-22-12; 8:45 am]

BILLING CODE 3410-11-P